DEPARTMENT OF HEALTH AND HUMAN SERVICES

National Institutes of Health

Center for Scientific Review; Amended Notice of Meeting

Notice is hereby given of a change in the meeting of the Center for Scientific Review Special Emphasis Panel, August 5, 2003, 2 p.m. to August 5, 2003, 3 p.m., National Institutes of Health, 6701 Rockledge Drive, Bethesda, MD 20814, which was published in the Federal Register on July 21, 2003, 68 FR 43141-43142.

The meeting will be held on August 6, 2003, from 9 a.m. to 10 a.m. The location remains the same. The meeting is closed to the public.

Dated: July 24, 2003.
LaVerne Y. Stringfield,
Director, Office of Federal Advisory Committee Policy.

[FR Doc. 03-19559 Filed 7-31-03; 8:45 am]

BILLING CODE 4140-01-M